DEPARTMENT OF COMMERCE

Census Bureau

15 CFR Part 70

[Docket No: 251205-0180]

RIN 0607-AA66

Removing Obsolete Regulations Governing the Cutoff Dates for Recognition of Boundary Changes for the 2010 Census

AGENCY: Census Bureau, Department of Commerce.

ACTION: Final rule.

SUMMARY: By this final rule, the Census Bureau is removing its regulations governing the cutoff dates for the recognition of boundary changes for the 2010 Census. This action is necessary because the regulations pertain exclusively to the 2010 Decennial Census and are therefore obsolete, serving no current administrative or public purpose. The intended effect is to streamline the Code of Federal Regulations and reduce potential confusion for the public by removing outdated provisions.

DATES: The final rule is effective January 23, 2026.

FOR FURTHER INFORMATION CONTACT: Michael Snow, Supervisory Program Analyst, Decennial Program Management Office, Decennial Management Division. Telephone: 301-763-9912. You may also email your questions to dcmd.pra@census.gov. If you are deaf, hard of hearing, or have a speech disability and wish to access telecommunications relay services, please dial 7-1-1.

SUPPLEMENTARY INFORMATION:

Background

The Census Bureau (Bureau) is removing its regulations at 15 CFR part 70 governing the cutoff dates for the recognition of boundary changes for the 2010 Census. This action is necessary, as the regulations pertain exclusively to the 2010 Decennial Census and are therefore obsolete and serve no current administrative or public purpose. The intended effect is to streamline the Code of Federal Regulations and reduce potential confusion for the public by removing outdated provisions.

The regulations in 15 CFR part 70 were first established in a final rule published on July 8, 1986 (51 FR 24653), to govern the 1990 Decennial Census. Citing the authority under 13 U.S.C. 4, as delegated by the Secretary of Commerce, the Bureau created this framework to provide a clear and consistent process for data collection and tabulation. The rule was designed to address the operational need for a stable geographic framework during the enumeration period by establishing firm cutoff dates after which boundary changes would not be recognized for that census cycle. The rule was subsequently amended through technical amendments for each following decennial census. A final rule published on March 3, 1998 (63 FR 10303) updated the relevant dates for the 2000 Census, and a final rule on August 11, 2008 (73 FR 46553) updated the dates and references for the 2010 Census, which is the most recent version of the regulation.

The regulations at 15 CFR part 70 being eliminated in this action define the operational framework for this process. Section 70.1 establishes the principal cutoff dates, requiring that for the 2010 Census, the Bureau will recognize only boundaries that are legally in effect on January 1, 2010, and that have been officially reported to the Bureau by March 1 of that same year. This ensured that census enumeration and data tabulation are based on a fixed and universally applied set of municipal, county, and state boundaries. Section 70.2 defines the key terms “municipality” and “county subdivision” for census purposes, clarifying that they include areas such as cities, villages, townships, and magisterial districts, and references a more complete description in the “Census 2000 Geographic Terms and Concepts” publication. Finally, § 70.3 outlines the effect of failing to meet the established deadlines. It specifies that any boundary changes that become effective after the January 1 cutoff, or that are not reported by the March 1 deadline, will not be recognized in the data tabulations for the 2010 Census. For enumeration purposes, residents of an area that was legally transferred to another jurisdiction after the cutoff date would be counted as residents of the area in which they resided on January 1, 2010.

Following a review of these regulations, the Bureau has determined that they are outdated and no longer necessary.

Revisions to the Code of Federal Regulations

This rule removes §§ 70.1, 70.2, and 70.3, which constitute 15 CFR part 70 in its entirety. These sections collectively established the operational framework for recognizing governmental boundary changes for the 2010 Census. Specifically, § 70.1 set the cutoff dates for boundary recognition, § 70.2 provided definitions for “municipality” and “county subdivision” for the purposes of that census, and § 70.3 detailed the consequences for boundary changes that occurred or were reported after the established deadlines. The Bureau has determined that these regulations, which pertain exclusively to the 2010 Decennial Census, are obsolete and no longer necessary. As such, these regulations have no future applicability and serve no current administrative or public purpose. Retaining these defunct rules in the Code of Federal Regulations creates unnecessary clutter, which can lead to confusion for state and local government officials, researchers, and the public who may be seeking information on current census procedures. Their removal is a common-sense administrative action that improves the clarity and utility of the Code of Federal Regulations without affecting any current rights or obligations.

This action is part of the Bureau's ongoing commitment to regulatory reform and good governance, ensuring that the Code of Federal Regulations remains current, clear, and free of outdated or redundant provisions. By eliminating this part, the Bureau reduces confusion for the public and governmental entities and streamlines the existing body of regulations and promotes efficiency by ensuring that stakeholders are not required to review and assess inapplicable regulations when determining current requirements.

Furthermore, the Department has determined that these regulations are not statutorily required. The authorizing statute cited for this part, 13 U.S.C. 4, provides the Secretary of Commerce with a general grant of authority to promulgate regulations necessary to carry out the duties of the Department. It does not, however, contain a specific mandate requiring the promulgation or retention of regulations governing census boundary cutoff dates. The establishment of such dates is an operational necessity for conducting a census, but the decision to codify the specific dates for a past census is a matter of administrative discretion. Because these regulations are time-limited and their statutory basis is discretionary, the Bureau has the authority, as delegated by the Secretary of Commerce, to remove the regulations from the Code of Federal Regulations to maintain a relevant and efficient regulatory framework.

Classification

A. Administrative Procedure Act

Pursuant to 5 U.S.C. 553(b)(B), the Bureau finds good cause to waive the prior notice and opportunity for public participation requirements of the Administrative Procedure Act for this final rule. The Bureau has determined that prior notice and opportunity for public participation is unnecessary because the sole change being made by this rule is the removal of the regulations at 15 CFR part 70, which are indisputably obsolete and also impose some burden on the public. The public would be tasked with determining whether the regulations have any continuing effect unless they are removed from the Code of Federal Regulations. These regulations pertain exclusively to the 2010 Census, which is neither in progress nor in effect, and thus no longer serve any purpose. Their continued presence in the Code of Federal Regulations would suggest some significance and effect, and thereby potentially: (1) confuse members of the public regarding the rules governing current and/or future Census activities, which can be matters of great public concern; and (2) distract from or minimize other Census regulations that actually do continue to possess significance. The obsolete nature of these regulations—and their potential for creating confusion among the public regarding Census activities moving forward—will not be cured by any public comment, as those regulations will continue to only apply to the completed 2010 Census and no future censuses. Because public participation is unnecessary and cannot cure the concerns that the continued presence of 15 CFR part 70 would raise, there exists good cause under § 553(b)(B) to waive the requirement for notice and comment procedures.

For similar reasons, the Bureau has additionally determined that there is good cause to waive the requirement for a 30-day delay in the effective date for this final rule under § 553(d). The immediate removal of 15 CFR part 70 will minimize the risk of public confusion regarding the rules governing current and the Bureau's future activities, as well as the risk of distracting from its regulations currently in effect. There are no requirements for members of the public to take action in order to comply with the revised regulations. There are likewise no costs for the public to bear that are associated with this final rule taking effect, as the rule exclusively removes obsolete regulations. Therefore, the Bureau finds good cause to waive the 30-day delay in effectiveness requirement under § 553(d).

B. Executive Orders 12866, 14192, 13132

The Office of Management and Budget has determined this rule is not a significant regulatory action under E.O. 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects in 15 CFR Part 70

Administrative practice and procedure, Census data, Reporting and recordkeeping requirements, State and local governments.

Dated: January 20, 2026.
George Cook,
Chief of Staff to the Under Secretary for Economic Affairs performing the non-exclusive functions and duties of the Director of the Census Bureau.

PART 70—[REMOVED AND RESERVED]

For the reasons set forth in the preamble and under the authority of 13 U.S.C. 4 and 5 U.S.C. 301, the Census Bureau removes and reserves 15 CFR part 70.

[FR Doc. 2026-01241 Filed 1-22-26; 8:45 am]

BILLING CODE 3510-07-P